SECURITIES AND EXCHANGE COMMISSION

[Release No. 34-68279A; File No. SR-NASDAQ-2012-117]

Self-Regulatory Organizations; The NASDAQ Stock Market LLC; Notice of Designation of Longer Period for Commission Action on Proposed Rule Change With Respect to INAV Pegged Orders for ETFs; Correction

December 4, 2012.

AGENCY: Securities and Exchange Commission.

ACTION: Notice; correction.

SUMMARY: The Securities and Exchange Commission published a document in the Federal Register on November 27, 2012, concerning a Notice of Designation of Longer Period for Commission Action on Proposed Rule Change with Respect to INAV Pegged Orders for ETFs. The document contained typographical errors.

FOR FURTHER INFORMATION CONTACT: Sarah E. Schandler, Division of Trading and Markets, Securities and Exchange Commission, 100 F Street NE., Washington, DC 20549, (202) 551-7145.

Correction

In the Federal Register of November 27, 2012 in FR Doc. 2012-70857, on page 70858, in the eighteenth line in the first column, correct the reference to January 16, 2012 instead to January 16, 2013, and in footnote 7 in the first column, correct the reference to 17 CFR 200.30-3(a)(57) instead to 17 CFR 200.30-3(a)(31).

Dated: December 4, 2012.
Kevin M. O'Neill,
Deputy Secretary.

[FR Doc. 2012-29857 Filed 12-10-12; 8:45 am]

BILLING CODE 8011-01-P